DEPARTMENT OF COMMERCE

National Oceanic and Atmospheric Administration

[I.D. 042406E]

Endangered and Threatened Species; Recovery Plans

AGENCY: National Marine Fisheries Service (NMFS), National Oceanic and Atmospheric Administration, Commerce.

ACTION: Notice of availability; request for comments.

SUMMARY: The National Marine Fisheries Service (NMFS) announces the availability for public review of the following two documents: the Draft Yakima Subbasin Salmon Recovery Plan developed by the Yakima Subbasin Planning Board (YSPB) (the YSPB Plan) for the portion of the Middle Columbia River steelhead (Oncorhynchus mykiss) distinct population segment (DPS) that is within the Yakima subbasin management unit, and a Supplement to the YSPB Plan prepared by NMFS (the Supplement). NMFS is soliciting review and comment on the Draft YSPB Plan and the Supplement from the public and all interested parties.

DATES: NMFS will consider and address all substantive comments received during the comment period. Comments must be received no later than 5 p.m. Pacific time on July 3, 2006.

ADDRESSES: Please send written comments and materials to Carol Joyce, National Marine Fisheries Service, Salmon Recovery Division, 1201 N.E. Lloyd Boulevard, Suite 1100, Portland, OR 97232. Comments may also be submitted by e-mail to: YakimaSalmonPlan.nwr@noaa.gov. Include in the subject line of the e-mail comment the following identifier: Comments on Yakima Salmon Plan. Comments may also be submitted via facsimile (fax) to 503-872-2737.

Persons wishing to review the YSPB Plan and/or Supplement can obtain an electronic copy (i.e., CD-ROM) from Carol Joyce by calling 503-230-5408 or by e-mailing a request to carol.joyce@noaa.gov with the subject line “CD-ROM Request for Yakima Steelhead Plan”. Electronic copies of the YSPB Plan are also available online on the Yakima Subbasin Fish and Wildlife Planning Board Web site, http://www.co.yakima.wa.us/YakSubbasin/default.htm. A description of previous public and scientific review, including scientific peer review, can be found in the NMFS Supplement to the YSPB Plan.

FOR FURTHER INFORMATION CONTACT: Lynn Hatcher, NMFS Salmon Recovery Coordinator at 509-962-8911 ext. 223, or Elizabeth Gaar, NMFS Salmon Recovery Division at 503-230-5434.

SUPPLEMENTARY INFORMATION:

Background

Recovery plans describe actions considered necessary for the conservation and recovery of species listed under the Endangered Species Act of 1973 (ESA), as amended (16 U.S.C. 1531 et seq.). An “evolutionarily significant unit” (ESU) of Pacific salmon (Waples 1991) and a “distinct population segment” (DPS) of steelhead (71 FR 834, January 5, 2006) are considered to be “species”, as defined in Section 3 of the ESA. The ESA requires that recovery plans incorporate: (1) Site-specific management actions necessary to achieve the plan's goals; (2) objective, measurable criteria which, when met, would result in a determination that the species is no longer threatened or endangered; and (3) estimates of the time required and costs to implement recovery actions. The ESA requires the development of recovery plans for listed species unless such a plan would not promote the recovery of a particular species.

NMFS' goal is to restore endangered and threatened Pacific salmon and steelhead ESA-listed species to the point that they are again secure, self-sustaining members of their ecosystems and no longer need the protections of the ESA. NMFS believes it is critically important to base its recovery plans on the many state, regional, tribal, local, and private conservation efforts already underway throughout the region. Therefore, the agency supports and participates in locally led collaborative efforts to develop recovery plans involving local communities, state, tribal, and Federal entities, and other stakeholders.

On October 26, 2005, the Yakima Subbasin Fish and Wildlife Planning Board (YSPB) presented its locally developed recovery plan (YSPB Plan) to NMFS. The YSPB comprises representatives from Yakima County, Benton County, Yakama Nation, and thirteen cities within the subbasin. A variety of partners representing Federal agencies, Washington State agencies, regional organizations, special-purpose districts, consultants, and members of the public participated in the planning process.

The draft YSPB Plan addresses a portion of the Middle Columbia River Steelhead DPS within the Yakima management unit (a geographic unit that NMFS has defined for recovery planning purposes). Recently, NMFS revised its species determinations for West Coast steelhead under the ESA, delineating a steelhead-only DPS. The steelhead DPS does not include rainbow trout, which are under the jurisdiction of the U. S. Fish and Wildlife Service (USFWS). The Middle Columbia River Steelhead ESU was listed as threatened on March 25, 1999 (64 FR 14517 ). NMFS listed the Middle Columbia River Steelhead DPS as threatened on January 5, 2006 (71 FR 834). The January 5, 2006, Federal Register notice contains a more complete explanation of this listing decision.

After review of the YSPB Plan, NMFS has added a Supplement that describes how the draft YSPB Plan contributes to ESA requirements for recovery plans, including qualifications and additional actions that NMFS believes are necessary to support recovery. The Supplement describes NMFS' intent to endorse the YSPB Plan and to use it as an interim regional recovery plan for one of four Middle Columbia management units that make up the range of the Middle Columbia River Steelhead DPS. The YSPB Plan will thereafter be combined with other local and regional plans to construct an overall, DPS-level plan that meets ESA section 4(f) requirements. The YSPB Plan will be an integral component of the full Middle Columbia River Steelhead DPS plan expected to be completed in 2006. The YSPB Plan, including the Supplement, is now available for public review and comment. As noted above, the Plan is available online at the Yakima Subbasin Fish and Wildlife Planning Board website, www.co.yakima.wa.us/YakSubbasin/default.htm, and both the Plan and the Supplement are available from NMFS (see ADDRESSES. NMFS and the YSPB will consider all comments and information presented during the public comment period (see DATES).

By endorsing a locally developed recovery plan, NMFS is making a commitment to implement the actions in the plan for which it has authority, to work cooperatively on implementation of other actions, and to encourage other Federal agencies to implement plan actions for which they have responsibility and authority. NMFS will also encourage the State of Washington to seek similar implementation commitments from state agencies and local governments. NMFS expects the final YSPB Plan to help it and other Federal agencies take a consistent approach to future section 7 consultations. For example, a final plan will provide greater biological context for the effects that a proposed action may have on a listed ESU/DPS. This context will be enhanced by adding recovery plan science to the “best available information” for section 7 consultations. Such information includes viability criteria for an ESU/DPS and its independent populations, better understanding of and information on limiting factors and threats facing the ESU/DPS, better information on priority areas for addressing specific limiting factors, and better geographic context for where the ESU/DPS can tolerate varying levels of risk.

ESU/DPS Addressed and Planning Area

This Plan is intended for implementation within the Yakima subbasin, which includes only a portion of the Middle Columbia River steelhead (O. mykiss) DPS, listed as threatened on March 25, 1999 (64 FR 14517) and January 5, 2006 (71 FR 834) . The range of the Middle Columbia River Steelhead DPS includes the Columbia River basin and tributaries upstream from the Wind River to and including the Yakima River (but excluding the Snake River) www.nwfsc.noaa.gov/trt/maps/map_stlhmcr.pdf. This DPS contains four major population groups (MPGs): (1) The Cascades Eastern Slope Tributaries MPG, which consists of populations in both Washington and Oregon; (2) John Day River, Oregon; (3) Walla Walla and Umatilla Rivers, Oregon and Washington; and (4) Yakima River Group, Washington (http://www.nwfsc.noaa.gov/trt/updated_population_delineation.pdf, p. 8, Table 1). The Yakima subbasin contains only 20 percent of the acreage and 4 of the 17 fish populations that make up the DPS. The four Yakima subbasin steelhead populations are Satus Creek, Toppenish Creek, Naches River, and the Upper Yakima River. These populations are grouped because they share genetic, geographic, and habitat characteristics within the DPS.

Because most state and local boundaries are not drawn on the basis of watersheds or ecosystems, the various groups and organizations formed for recovery planning do not necessarily correspond to ESU/DPS areas. Therefore, in order to develop ESU/DPS-wide recovery plans that are built from local recovery efforts, NMFS defined "management units" that roughly follow jurisdictional boundaries but, taken together, encompass the geography of entire ESU/DPSs. For Mid-Columbia River steelhead, there are four management units: (1) Northeast Oregon; (2) Yakima; (3) Columbia Gorge (Klickitat/Rock Creek/White Salmon); and (4) southeast Washington (Walla Walla and Touchet). The Yakima Subbasin Salmon Recovery Plan is the plan for the Yakima management unit.

In 2006, the separate management unit plans will be “rolled up” or consolidated into ESU/DPS level recovery plans. The final ESU/DPS level recovery plans will incorporate the management unit plans and endorse the recommendations and decisions (for example, decisions on site-specific habitat actions) that are most appropriately left to the local recovery planners and implementers. The ESU/DPS-level plans will also more completely address actions for the hatchery, harvest, and hydropower sectors.

The YSPB Plan

The YSPB Plan incorporates the NMFS viable salmonid population (VSP) framework as a basis for biological status assessments and recovery goals for Middle Columbia River steelhead. The YSPB Plan also incorporates the work of the Interior Columbia Technical Recovery Team (ICTRT) appointed by NMFS, which provided recommendations on biological criteria for ESU and population viability. The ICTRT set forth scientific conditions that, if met, would indicate a high probability of persistence into the future for Middle Columbia River steelhead. In the Supplement, NMFS indicates its support for the YSPB Plan's recommendations for biological criteria on an interim basis until biological criteria are developed in 2006 through the DPS-roll up process. The current status of the four major populations in the Yakima subbasin was derived through local assessments, in consultation with the ICTRT and state and tribal co-managers.

In general, based on updated status evaluations considering the four VSP parameters of abundance, population growth rate, genetic and life history diversity, and spatial structure, the YSPB Plan concludes that none of the four remaining steelhead populations is currently viable; the Satus and Toppenish populations should be considered to be at moderate risk of extinction, the Naches at moderate to high risk, and the Upper Yakima at high risk. Overall abundance has declined substantially from historical levels, and many populations are small enough that genetic and demographic risks are likely to be relatively high.

The YSPB Plan provides a set of recovery actions to implement in the Yakima subbasin. It identifies threats to the Middle Columbia River Steelhead DPS, includes actions intended to address all the manageable threats within the Yakima management unit, and includes recovery goals and measurable criteria consistent with the ESA. The YSPB Plan's initial approach is to attempt to reduce all manageable threats within the Yakima management unit and to improve the status of all four Yakima steelhead populations. As monitoring and evaluation improve our understanding of the effectiveness of various actions and their benefits throughout the life cycle of salmon and steelhead, adjustments may be made through the adaptive management framework described in the YSPB Plan.

The YSPB Plan discusses social, economic, policy, and management factors that have contributed to the ESA listing: Agricultural practices, dams, residential development, and other sources of habitat degradation; excessive fishing; predation; and others.

The YSPB Plan identifies the following key threats to the DPS and recovery actions to reduce them:

1. Habitat: Human activities have altered and/or curtailed habitat-forming processes and limited the habitat suitable for steelhead in the Yakima subbasin. Although, more recently, land and water management regulations and practices have generally improved, storage dams, diversions, roads and railways, agriculture (including livestock grazing), residential development, and forest management continue to threaten steelhead and their habitat in the subbasin. The results continue to be deleterious changes in flow, water temperature, sedimentation, floodplain dynamics, riparian function, and other factors.

2. Harvest: While over-harvest probably contributed to the decline in steelhead status, in-basin and out-of-basin harvests currently are less of a threat here than other factors. The Yakima River and its tributaries have been closed to steelhead fishing since 1994. Current harvest management objectives emphasize survival and recovery of wild steelhead populations. For example, staging areas for pre-spawning steelhead near the mouths of Toppenish and Satus Creeks are closed for coho and fall Chinook salmon during fall salmon fisheries. Out-of-subbasin harvest effects, including incidental mortality in mixed-stock mainstem Columbia River recreational and commercial fisheries, will be addressed in 2006 in the context of the rest of the management units and other out-of-subbasin effects.

3. Hydroelectric operations: Although hydroelectric power is produced only on a small scale at three facilities in the Yakima subbasin, their operations cause problems for steelhead, including reduced streamflows in the river reaches between the diversions and power plant outfalls and, in combination with activities at irrigation canals, large flow fluctuations.

4. Additional factors: The YSPB Plan reviews the following additional factors that affect Yakima subbasin steelhead: global climate change, hydroelectric production downstream in the mainstem Columbia, inadequacy of existing regulatory mechanisms, fluctuating ocean cycles, and predation. These additional factors further support recovery actions to protect and restore local habitat conditions as a buffer against larger-scale changes. The YSPB Plan does not propose actions regarding global climate change or the Columbia hydropower system because these are considered and/or managed in other venues. Steelhead migrating to and from the Yakima subbasin pass four Columbia River hydroelectric dams: Bonneville, The Dalles, John Day, and McNary. The YSPB Plan notes that in May 2005 the Federal district court for Oregon declared the 2004 Federal Columbia River Power System (FCRPS) Biological Opinion to be invalid, and at the time of the plan's writing, actions to mitigate the effects of the Federal hydropower facilities were not fully defined. Mainstem hydropower and other out-of-basin actions will be addressed during the DPS-level rollup with the other management units in 2006.

Hatcheries are not considered a threat to steelhead in the Yakima subbasin. Steelhead from several sources outside the subbasin were introduced in the past, but steelhead are no longer stocked here. In the mid-1980s, co-managers produced fish from wild Yakima broodstock, but discontinued wild broodstock collection after 1989 because of a low smolt-to-adult survival rate and problems differentiating steelhead populations. Currently, a conservation kelt reconditioning program captures post-spawning steelhead and transfers them to a culture facility to be “reconditioned” (to increase the likelihood that they will make the ocean-to-freshwater journey to spawn more than once during their life spans). So far, research suggests that effects of this program on steelhead population genetic and life history diversity are minor.

5. Integration: The YSPB Plan states that recovery will depend on integrating actions that address habitat, harvest, and hydroelectric operations, but also emphasizes that recovery actions affecting steelhead have to be taken at both the subbasin scale and population scales. The YSPB Plan calls for advancing the work on recovery actions at both the subbasin and the population scale in the first years of plan implementation.

The YSPB Plan identifies actions needed to achieve recovery by addressing limiting factors and threats to the species. The YSPB Plan also incorporates an adaptive management framework by which approaches and actions will be adjusted over time as conditions change and information is gained as a result of monitoring and evaluation. The YSPB Plan anticipates that future actions will be influenced by additional analysis of costs and effectiveness of recovery actions to maximize efficiency.

The goal is to ensure long-term persistence of viable populations of naturally produced steelhead distributed across their native range. To be consistent with the YSPB Plan's goal, listed populations must meet specific abundance, productivity, spatial structure, and diversity objectives and criteria.

The implementation schedule covers actions that are ongoing, short-term (those that can be implemented within 5 years), and long-term (those that can be implemented within 15 years). The YSPB Plan commits to developing specific time frames for implementation of long-term actions in 2006. The YSPB Plan states that it may take several decades to recover the Yakima portion of the Middle Columbia River Steelhead DPS.

The next step outlined in the Supplement is to obtain implementation schedules from each of the responsible entities describing when and how recovery actions will occur and how much they are estimated to cost. The YSPB, with assistance from NMFS, will work to get these implementation activities underway in 2006. Given that salmon recovery efforts have been underway in the Yakima subbasin since the 1980s, much of the internal framework (policy, scientific, public support, and funding) needed to implement these actions is either in place or can be established quickly once the plan is adopted. Implementation schedules and estimated costs will be incorporated into the YSPB Plan.

Public Comments Solicited

NMFS solicits written comments on the draft YSPB Plan, consisting of both the Yakima Plan and the Supplement. The Supplement states NMFS' assessment of the YSPB Plan's relationship to ESA requirements for recovery plans. The Supplement also explains the agency's intent to use the revised YSPB Plan to guide and prioritize recovery actions and to ultimately incorporate the YSPB Plan into a final Federal ESA recovery plan for the Middle Columbia River Steelhead DPS. All comments received by the date specified above will be considered prior to NMFS' decision whether to endorse the revised YSPB Plan as an interim regional recovery plan and incorporate it into the DPS-level plan. Additionally, NMFS will provide a summary of the comments and responses through its regional web site and will provide a news release for the public announcing the availability of the response to comments. NMFS seeks comments particularly in the following areas: (1) The analysis of limiting factors and threats; (2) strategies and actions at the subbasin and population scale; (3) the criteria for removing the DPS from the Federal list of endangered and threatened wildlife and plants; (4) meeting the ESA requirement for estimates of time and cost to implement recovery actions by soliciting implementation schedules (see discussion in the Supplement); and (5) the process of developing ESU-wide recovery plans using management unit plans.

Authority: 16 U.S.C. 1531 et seq.

Dated: April 27, 2006.
Angela Somma,
Chief, Endangered Species Division, Office of Protected Resources, National Marine Fisheries Service.

[FR Doc. E6-6707 Filed 5-2-06; 8:45 am]

BILLING CODE 3510-22-S